DEPARTMENT OF HOMELAND SECURITY

Federal Emergency Management Agency

[Docket ID: FEMA-2010-0040]

Agency Information Collection Activities: Submission for OMB Review; Comment Request, OMB No. 1660-0015; Revisions to National Flood Insurance Program Maps: Application Forms and Instructions for (C)LOMAs and (C)LOMR-Fs

AGENCY: Federal Emergency Management Agency, DHS.

ACTION: Notice; 30-day notice and request for comments; revision of a currently approved information collection; OMB No. 1660-0015; FEMA Form 086-0-26 (formerly 81-87) Property Information; FEMA Form 08-0-26A (formerly 81-87A) Elevation; FEMA Form 086-0-26B (formerly 81-87B) Community Acknowledgement; FEMA Form 086-0-22, Application Form for Single Residential Lot or Structure Amendments to National Flood Insurance Program Maps; FEMA Form 086-0-22A, Application Form for Single Residential Lot or Structure Amendments to National Flood Insurance Program Maps (Spanish).

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before December 2, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Revisions to National Flood Insurance Program Maps: Application Forms and Instructions for (C)LOMAs and (C)LOMR-Fs.

Type of Information Collection: Revision of a currently approved information collection.

OMB Number: 1660-0015.

Form Titles and Numbers: FEMA Form 086-0-26 (formerly FEMA Form 81-87) Property Information; FEMA Form 08-0-26A (formerly FEMA Form 81-87A) Elevation; FEMA Form 086-0-26B (formerly FEMA Form 81-87B) Community Acknowledgement; FEMA Form 086-0-22, Application Form for Single Residential Lot or Structure Amendments to National Flood Insurance Program Maps; FEMA Form 086-0-22A, Application Form for Single Residential Lot or Structure Amendments to National Flood Insurance Program Maps (Spanish).

Abstract: This collection of information allows owners of structures that have been found to be in a designated Special Flood Hazard Area (SFHA) the opportunity to request a review of this determination. With the submission of the appropriate documentation, FEMA will conduct a review of the structure in question and either certify the original finding or modify the designation so that it no longer indicates a SFHA identifier. If the structure is found to not be in a SFHA, FEMA will issue a written determination and modify the appropriate map by a Letter of Map Amendment (LOMA) or a Letter of Map Revision—Based on Fill (LOMR-F). The structure then qualifies for a waiver of flood insurance.

Affected Public: Individuals or households; business or other for profit.

Estimated Number of Respondents: 97,865.

Frequency of Response: On occasion.

Estimated Average Hour Burden per Respondent: FEMA Form 086-0-26 (1.63 hours), FEMA Form 086-0-26A (1.25 hours), FEMA Form 086-0-26B (1.38 hours), FEMA Form 086-0-22 English (2.4 hours), FEMA Form 086-0-22A Spanish (2.4 hours).

Estimated Total Annual Burden Hours: 129,320 hours.

Estimated Cost: The estimated annual operations and maintenance costs for technical services is $20,540,250. There is no annual start-up or capital costs.

Dated: October 27, 2010.
Lesia M. Banks,
Director, Records Management Division, Mission Support Bureau, Federal Emergency Management Agency, Department of Homeland Security.

[FR Doc. 2010-27655 Filed 11-1-10; 8:45 am]

BILLING CODE 9110-12-P